DEPARTMENT OF COMMERCE

National Oceanic and Atmospheric Administration

50 CFR Part 660

[I.D. 120600B]

RIN 0648-AO64

Fisheries Off West Coast States and in the Western Pacific; Coastal Pelagic Species Fishery; Amendment 9

AGENCY: National Marine Fisheries Service (NMFS), National Oceanic and Atmospheric Administration (NOAA), Commerce.

ACTION: Notice of availability of an amendment to a fishery management plan; request for comments.

SUMMARY: NMFS announces that the Pacific Fishery Management Council (Council) has submitted Amendment 9 to the Coastal Pelagic Species Fishery Management Plan (FMP) for Secretarial review. The amendment was prepared to document bycatch in the coastal pelagic species fishery (CPS), ensure that a standardized reporting methodology to assess the amount and type of bycatch exists, and propose any necessary conservation and management measures to minimize bycatch. Amendment 9 also ensures that Indian fishing rights will be met according to treaties between the U.S. and specific tribes.

DATES: Comments on Amendment 9 must be received on or before February 20, 2001.

ADDRESSES:

Comments on Amendment 9 should be sent to Dr. Rebecca Lent, Administrator, Southwest Region, NMFS, 501 West Ocean Boulevard, Suite 4200, Long Beach, CA 90802.

Copies of Amendment 9, which includes an Environmental Assessment/Regulatory Impact Review, are available from Donald O. McIssac, Executive Director, Pacific Fishery Management Council, 2130 SW Fifth Avenue, Suite 224, Portland, OR, 97201.

FOR FURTHER INFORMATION CONTACT: James Morgan, Sustainable Fisheries Division, NMFS, at 562-980-4036 or Daniel Waldeck, Pacific Fishery Management Council, at 503-326-6352.

SUPPLEMENTARY INFORMATION: The Magnuson-Stevens Fishery Conservation and Management Act (Magnuson-Stevens Act) requires each regional fishery management council to submit any new FMP or FMP amendment to NMFS for review and approval, disapproval, or partial approval. The Magnuson-Stevens Act also requires that NMFS, upon receiving an FMP or FMP amendment, immediately publish a notification in the Federal Register that the FMP or amendment is available for public review and comment. At the end of the comment period, NMFS considers the public comments received during the comment period and determines whether to approve, disapprove, or partially approve the FMP or FMP amendment.

The 1996 Sustainable Fisheries Act requires FMPs prepared by any council, or the Secretary of Commerce, with respect to any fishery to establish a standardized reporting methodology to assess the amount and type of bycatch occurring in the fishery, and include conservation and management measures, that to the extent practicable and in the following priority minimize bycatch; and minimize the mortality of bycatch that cannot be avoided. The Council sought to address the Magnuson-Steven Act bycatch requirement in Amendment 8. However, NMFS disapproved the bycatch provisions in Amendment 8. Therefore, Amendment 9 was prepared by the Council to document bycatch in the CPS fishery, ensure that a standardized reporting methodology to assess the amount and type of bycatch exists, and propose any necessary conservation and management measures to minimize bycatch.

Amendment 9 would also establish a framework process similar to that used in the Pacific coast groundfish fishery to allocate CPS to Indian tribes according to the requirements of U.S. treaties should such allocations become necessary.

Public comments on Amendment 9 must be received by February 20, 2001, to be considered by NMFS in the decision whether to approve, disapprove, or partially approve Amendment 9. A proposed rule to implement Amendment 9 has been submitted for Secretarial review and approval. NMFS expects to publish and request public comment on the proposed regulation to implement Amendment 9 in the near future.

Authority: 16 U.S.C. 1801 et. seq.

Dated: December 15, 2000.
Clarence Pautzke,
Director, Office of Sustainable Fisheries, National Marine Fisheries Service.

[FR Doc. 00-32472 Filed 12-20-00; 8:45 am]

BILLING CODE: 3510-22-S